DEPARTMENT OF ENERGY

Federal Energy Regulatory Commission

Combined Notice of Filings #1

March 31, 2010.

Take notice that the Commission received the following electric rate filings:

Docket Numbers: ER00-1372-006; ER07-496-003.

Applicants: Alcoa Power Generating Inc.; Alcoa Power Marketing, LLC.

Description: Amendment to Request for Exemption from the Triennial Market Power Update Reporting Requirements for Category 2 Sellers for the Northwest Region.

Filed Date: 03/29/2010.

Accession Number: 20100330-0030.

Comment Date: 5 p.m. Eastern Time on Monday, April 19, 2010.

Docket Numbers: ER04-1220-001.

Applicants: Caprock Wind LLC.

Description: Amendment to Caprock Wind LLC's Request for Category 1 Seller Status.

Filed Date: 03/30/2010.

Accession Number: 20100330-5120.

Comment Date: 5 p.m. Eastern Time on Tuesday, April 20, 2010.

Docket Numbers: ER10-769-003.

Applicants: Glenwood Energy Partners, LTD.

Description: Glenwood Energy Partners, LTD submits the Petition for Acceptance of Initial Rater Schedule, Waivers, and Blanket Authority.

Filed Date: 03/30/2010.

Accession Number: 20100331-0228.

Comment Date: 5 p.m. Eastern Time on Tuesday, April 20, 2010.

Docket Numbers: ER10-952-000.

Applicants: Virginia Electric and Power Company.

Description: Virginia Electric and Power Company submits notice of cancellation and a cancelled service agreement sheet terminating a Power Sales Agreement etc.

Filed Date: 03/30/2010.

Accession Number: 20100330-0244.

Comment Date: 5 p.m. Eastern Time on Tuesday, April 20, 2010.

Docket Numbers: ER10-953-000.

Applicants: Midwest Independent Transmission System Operator, Inc.

Description: Midwest Independent Transmission System Operator, Inc. proposed revisions to its Attachment LL, et al., of the Midwest ISO Access Transmission et al.

Filed Date: 03/30/2010.

Accession Number: 20100330-0246.

Comment Date: 5 p.m. Eastern Time on Tuesday, April 20, 2010.

Docket Numbers: ER10-954-000.

Applicants: Midwest Independent Transmission System Operator, Inc.

Description: Midwest Independent Transmission System Operator, Inc. et al., submits proposed revisions to the Congestion Management Process of the Joint Operating Agreement between the Midwest ISO et al.

Filed Date: 03/30/2010.

Accession Number: 20100330-0245.

Comment Date: 5 p.m. Eastern Time on Tuesday, April 20, 2010.

Docket Numbers: ER10-955-000.

Applicants: Arizona Public Service Company.

Description: Arizona Public Service Company submits an amendment to Exhibit B to the 1991 Operation Maintenance, and Replacement of Facilities Agreement with the Western Area Power Administration.

Filed Date: 03/30/2010.

Accession Number: 20100330-0248.

Comment Date: 5 p.m. Eastern Time on Tuesday, April 20, 2010.

Docket Numbers: ER10-956-000.

Applicants: Vantage Wind Energy LLC.

Description: Vantage Wind Energy LLC submits an application for authorization to make market-based wholesale sales of energy, capacity, and ancillary services under FERC Electric Tariff No. 1 and requests for related waivers etc.

Filed Date: 03/30/2010.

Accession Number: 20100331-0209.

Comment Date: 5 p.m. Eastern Time on Tuesday, April 20, 2010.

Docket Numbers: ER10-957-000.

Applicants: Southwest Power Pool, Inc.

Description: Southwest Power Pool, Inc. submits an executed Meter Agent Services Agreement with Energy Authority, Inc. et al.

Filed Date: 03/30/2010.

Accession Number: 20100331-0207.

Comment Date: 5 p.m. Eastern Time on Tuesday, April 20, 2010.

Docket Numbers: ER10-958-000.

Applicants: Lockhart Power Company.

Description: Lockhart Power Company request for revisions to FERC Electric Tariff, Original Volume No. 1 providing service to the City of Union, South Carolina.

Filed Date: 03/30/2010.

Accession Number: 20100331-0206.

Comment Date: 5 p.m. Eastern Time on Tuesday, April 20, 2010.

Docket Numbers: ER10-959-000.

Applicants: Central Maine Power Company.

Description: Central Maine Power Company submits an Amended Interconnection Agreement with Sparhawk Mill Associates, LLC.

Filed Date: 03/30/2010.

Accession Number: 20100331-0215.

Comment Date: 5 p.m. Eastern Time on Tuesday, April 20, 2010.

Docket Numbers: ER10-960-000.

Applicants: Central Maine Power Company.

Description: Central Maine Power Company submits an Amended Interconnection Agreement with Marsh Power LP.

Filed Date: 03/30/2010.

Accession Number: 20100331-0212.

Comment Date: 5 p.m. Eastern Time on Tuesday, April 20, 2010.

Docket Numbers: ER10-961-000.

Applicants: Idaho Power Company.

Description: Idaho Power Co. submits their Network Integration Service Agreement, Third Revised Service Agreement 159 to FERC Electric Tariff, First Revised Volume 6.

Filed Date: 03/30/2010.

Accession Number: 20100331-0214.

Comment Date: 5 p.m. Eastern Time on Tuesday, April 20, 2010.

Docket Numbers: ER10-962-000.

Applicants: Union Electric Company.

Description: Union Electric Company submits a proposed new Rate Schedule FERC No. 22 with supporting cost data.

Filed Date: 03/31/2010.

Accession Number: 20100331-0216.

Comment Date: 5 p.m. Eastern Time on Wednesday, April 21, 2010.

Docket Numbers: ER10-963-000.

Applicants: Tampa Electric Company.

Description: Tampa Electric Company submits First Revised Sheet 3 to FERC Electric Tariff, Original Volume 7, to be effective 4/1/10.

Filed Date: 03/31/2010.

Accession Number: 20100331-0219.

Comment Date: 5 p.m. Eastern Time on Wednesday, April 21, 2010.

Docket Numbers: ER10-964-000.

Applicants: Central Maine Power Company.

Description: Central Maine Power Company submits an Amended Interconnection Agreement by and with Kennebec Water District.

Filed Date: 03/30/2010.

Accession Number: 20100331-0223.

Comment Date: 5 p.m. Eastern Time on Tuesday, April 20, 2010.

Docket Numbers: ER10-965-000.

Applicants: PJM Interconnection, LLC.

Description: PJM Interconnection, LLC submits a notice of cancellation of the executed Transmission Service Agreements.

Filed Date: 03/31/2010.

Accession Number: 20100331-0229.

Comment Date: 5 p.m. Eastern Time on Wednesday, April 21, 2010.

Docket Numbers: ER10-966-000.

Applicants: California Independent System Operator Corporation.

Description: The California Independent System Operator Corporation submits Third Revised Sheet 217 et al. to FERC Electric Tariff, Fourth Replacement Volume 1, to be effective 3/31/10.

Filed Date: 03/31/2010.

Accession Number: 20100331-0230.

Comment Date: 5 p.m. Eastern Time on Wednesday, April 21, 2010.

Docket Numbers: ER10-967-000.

Applicants: Central Maine Power Company.

Description: Central Maine Power Company submits petitions to terminate the Interconnection Agreement with Moosehead Energy, Inc.

Filed Date: 03/31/2010.

Accession Number: 20100331-0231.

Comment Date: 5 p.m. Eastern Time on Wednesday, April 21, 2010.

Docket Numbers: ER10-968-000.

Applicants: Cleco Power LLC.

Description: Cleco Power LLC submits a Service Agreement for Network Integration Transmission.

Filed Date: 03/31/2010.

Accession Number: 20100331-0232.

Comment Date: 5 p.m. Eastern Time on Wednesday, April 21, 2010.

Take notice that the Commission received the following open access transmission tariff filings:

Docket Numbers: OA09-16-001.

Applicants: Northeast Utilities Service Company.

Description: Northeast Utilities Service Company's Order 890 compliance filing of its operational penalties report.

Filed Date: 03/31/2010.

Accession Number: 20100331-5157.

Comment Date: 5 p.m. Eastern Time on Wednesday, April 21, 2010.

Take notice that the Commission received the following public utility holding company filings:

Docket Numbers: PH10-12-000.

Applicants: Brookfield Asset Management Inc.

Description: Brookfield Asset Management Inc., et al.'s Notice of Change in Facts.

Filed Date: 03/30/2010.

Accession Number: 20100330-5098.

Comment Date: 5 p.m. Eastern Time on Tuesday, April 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-7817 Filed 4-6-10; 8:45 am]

BILLING CODE 6717-01-P